DEPARTMENT OF TRANSPORTATION

National Highway Traffic Safety Administration

[Docket No. NHTSA-2023-0029]

Denial of Motor Vehicle Defect Petition, DP21-002

AGENCY: National Highway Traffic Safety Administration, (NHTSA), Department of Transportation.

ACTION: Denial of a petition for a defect investigation

SUMMARY: This notice sets forth the reasons for the denial of a petition, DP21-002, submitted by Mr. Gerald James to the Administrator of NHTSA by a letter dated September 30, 2021. The petition requests that NHTSA initiate an investigation into “severe oil leaks” from the oil pressure switch that could lead to engine failures experienced by operators of Model Year (MY) 2015-2017 Kia Sorento vehicles equipped with 3.3L V6 engines. After conducting a technical review of: customer complaints submitted by the petitioner; an inspection of petitioner's vehicle; consumer complaint information in NHTSA's database; information provided by Kia North America (Kia) in response to our requests regarding vehicle design and complaints/claims received by Kia; and component testing performed by NHTSA's Vehicle Research and Test Center, NHTSA's Office of Defects Investigation has concluded that it is unlikely that any investigation opened by granting this petition would result in an order concerning the notification and remedy of a safety-related defect. Therefore, upon full consideration of the information presented in the petition and the potential risks to safety, the petition is denied.

FOR FURTHER INFORMATION CONTACT: Mr. Michael Lee, Vehicle Division C, Office of Defects Investigation, NHTSA 1200 New Jersey SE, Washington, DC 20590. Telephone: 202-366-5236. Email: Michael.Lee@dot.gov.

SUPPLEMENTARY INFORMATION:

Introduction

Interested persons may petition NHTSA requesting that the Agency initiate an investigation to determine whether a motor vehicle or an item of replacement equipment does not comply with an applicable motor vehicle safety standard or contains a defect that relates to motor vehicle safety. 49 U.S.C. 30162(a)(2); 49 CFR 552.1. Upon receipt of a properly filed petition, the Agency conducts a technical review of the petition, material submitted with the petition, and any additional information. 49 U.S.C. 30162(a)(2); 49 CFR 552.6. The technical review may consist solely of a review of information already in the possession of the Agency, or it may include the collection of information from the motor vehicle manufacturer and/or other sources. After conducting the technical review and considering appropriate factors, which may include, but are not limited to, the nature of the complaint, allocation of Agency resources, Agency priorities, the likelihood of uncovering sufficient evidence to establish the existence of a defect and the likelihood of success in any necessary enforcement litigation, the Agency will grant or deny the petition. See 49 U.S.C. 30162(a)(2); 49 CFR 552.8.

Background Information

In a letter dated September 30, 2021, Mr. Gerald James (the petitioner) requested that NHTSA conduct an investigation of Model Year 2015-2017 Kia Sorento vehicles equipped with 3.3L V6 “Lambda” engines for “severe oil leaks” from the oil pressure switch that could “lead to engine failure” with little warning to the driver. Mr. James based this request on his own experience and data found in NHTSA's Vehicle Owner Questionnaire (VOQ) database. NHTSA reviewed the material cited by the petitioner, information submitted by Kia, NHTSA's testing, and other pertinent information in NHTSA databases.

Summary of Petition

The petitioner reported that his model year (MY) 2016 Kia Sorento equipped with a 3.3L Lambda engine experienced oil leaking from the oil pressure switch (OPS) leaving visible oil trails. This caused the front end of the vehicle “to tremble as if it was going to stall.” The petitioner alleged that a leaking OPS could result in engine failure with little warning/indication to the driver. The petitioner further noted that it is a widespread issue among other Kia Sorento vehicles, as evidenced by similar consumer complaints on NHTSA's website.

Office of Defects Investigation Analysis

On December 16, 2021, the Office of Defects Investigation (ODI) and Kia performed a joint inspection of the petitioner's vehicle, which was towed to a Kia dealership where it could be observed, documented, and provided with a new revised OPS to replace the allegedly defective component. ODI and Kia agreed the OPS was leaking oil and observed oil in the crevices atop the engine block. After the vehicle received the new replacement part, it was returned to the petitioner via a tow truck. The original part that was removed from the subject vehicle was retained by ODI for further analysis, if deemed needed.

On February 23, 2022, Kia submitted its analysis of the claims made in the petition. Kia provided a failure mode analysis of the original design OPS noting two potential failure modes that can allow oil to leak through the body of the pressure switch. During an internal manufacturer investigation, the OPS was revised due to the two potential failure modes. The analysis found that fatigue damage and rubber washer contraction at low temperatures within the OPS could cause oil to leak internally in the sensor's diaphragm. Production changes were applied to the MY 2017 Kia Cadenza, MY 2019 Kia Sorento, and MY 2019 Kia Sedona. Kia also provided computer aided design (CAD) drawings to show the potential oil path from a leaking OPS to the top of the engine block and then through a weep hole designed for entrapped liquid residing on the engine block to flow down to the plastic under-bumper tray below. The CAD drawings also estimated the amount of liquid that can be collected on top of the engine block to be about 145 mL. Kia provided a visual representation of a trail of oil like that submitted by the petitioner, which was replicated using about 80 mL or just over half the amount that can accumulate atop the engine block. Based on its testing as described below, ODI believes the trail of oil indicated by the petitioner to be old oil spilled over or leaked down rather than fresh oil leaked from the OPS to the ground.

On April 4, 2022, the Vehicle Research and Test Center (VRTC) performed testing of the petitioner's component (OPS) based on the testing protocol consistent with Kia's specifications for the subject vehicle. The testing involved the petitioner's original OPS in a controlled system to replicate the subject vehicle's oil pressure, flow, and temperature to determine the leak or flow rate of oil emanating from the switch by collecting the volume of oil loss over time. VRTC calculated that 236 mL of oil loss could occur under usage conditions consisting of driving 55 minutes a day for 6 months (the manufacturer recommended oil change interval of every 6 months or 7500 miles). Based on the estimated leak rate and the known amount of oil in the engine at the `full' oil dipstick level and `low' oil dipstick level, it would take about 19 oil change intervals for the engine oil level to drop from the `full' dipstick level to the level resulting in illumination of the vehicle malfunction indicator lamp (MIL) and about 12 oil change intervals for the engine oil level to drop from the `low' dipstick level to the level resulting in illumination of the MIL. VRTC conducted additional testing and confirmed that the OPS can operate as intended, despite leaking oil, to illuminate the vehicle's MIL to alert the driver of low oil pressure.

In April of 2022, Kia issued a warranty extension program that extended the coverage of the OPS from 5 years/60,000 miles to 15 years/150,000 miles for MY 2014-2018 Sorento, MY 2014-2016 Cadenza, and MY 2015-2018 Sedona vehicles, all equipped with the 3.3L Lambda engines. The extended warranty coverage includes the diagnosis and repair and covers customers experiencing oil leaking from the engine or if the engine oil pressure warning light stays illuminated after the engine is turned on.

As of May 5, 2023, NHTSA reviewed its internal data on MY 2016-2018 Kia Sorento vehicles equipped with 3.3L Lambda engines (population of 161,519 vehicles), which identified no consumer complaints or field reports that allege engine failure or stalling related to the petitioner's allegation of OPS failures. ODI's review of the field data, warranty data, and technical analysis provided by Kia identified no engine failures or vehicle stalling caused by OPS failure/leaking on the subject vehicles. Based on this and VRTC's testing described above, ODI believes the risk of a vehicle stalling and/or of a non-crash engine fire caused by an OPS failure is unlikely.

After a thorough review of the material submitted by the petitioner, information already in NHTSA's possession, testing performed by VRTC, technical information provided by Kia, the potential risks to safety implicated by the petitioner's allegation, NHTSA believes it is unlikely that any investigation opened by granting this petition would result in an order concerning the notification and remedy of a safety-related defect. Therefore, upon full consideration of the information presented in the petition and the potential risks to safety, the petition is denied.

Authority: 49 U.S.C. 30162(d) and 49 CFR part 552; delegation of authority at 49 CFR 1.95(a).¹

¹ The authority to determine whether to approve or deny defect petitions under 49 U.S.C. 30162(d) and 49 CFR part 552 has been further delegated to the Associate Administrator for Enforcement.

Eileen Sullivan,
Associate Administrator, Enforcement.

[FR Doc. 2024-14570 Filed 7-1-24; 8:45 am]

BILLING CODE 4910-59-P